DEPARTMENT OF TRANSPORTATION

Pipeline and Hazardous Materials Safety Administration

Hazardous Materials: Notice of Application for Special Permits

AGENCY: Office of Hazardous Materials Safety, Pipeline and Hazardous Materials Safety Administration, (PHMSA), DOT.

ACTION: List of Applications for Special Permits.

SUMMARY: In accordance with the procedures governing the application for, and the processing of, special permits from the Department of Transportation's Hazardous Material Regulations (49 CFR part 107, subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before November 2, 2015.

Address Comments To: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

Copies of the applications are available for inspection in the Records Center, East Building, PHH-30, 1200 New Jersey Avenue Southeast, Washington DC or at http://regulations.gov.

This notice of receipt of applications for special permit is published in accordance with part 107 of the Federal hazardous materials transportation law (49 U.S.C. 5117(b); 49 CFR 1.53(b)).

Issued in Washington, DC, on September 3, 2015.
Donald Burger,
Chief, General Approvals and Permits.

New Special Permits
Application No. | Docket No. | Applicant | Regulation(s) affected | Nature of special permits thereof
16545-N |  | Veolia ES Technical Solutions, L.L.C., Lombard, IL | 49 CFR 173.21(b), 173.51, 173.54(a), 173.56(b), 173.340 | To authorize the transportation in commerce of certain riot control agents and fireworks to a disposal facility. (mode 1)
16549-N |  | Special Devices, Incorporated Mesa, AZ | 49 CFR 172.320, 173.56(b) | To authorize the transportation in commerce of certain pyrotechnic articles classed as Division 1.4S, UN0431, Articles pyrotechnic for technical purposes without being examined, classed, and approved under 49 CFR 173.56(b). (modes 1, 2, 3, 4)
16554-N |  | Apple, Inc., Cupertino, CA | 49 CFR Subparts C through H of Part 172, 173.185(f) | To authorize the transportation in commerce of recalled lithium ion batteries contained in equipment in retail packaging by motor vehicle. (mode 1)
16558-N |  | National Aeronautics and Space Administration, Washington, DC | 49 CFR 173.185(c)(1)(iv), 173.185(c)(4) | To authorize the transportation in commerce of certain lithium metal batteries contained in equipment in non-UN performance oriented packaging. (modes 1, 4)
16559-N |  | HTEC Hydrogen Technology & Energy Corporation, North Vancouver, BC, Canada | 49 CFR 173.302a | To authorize the transportation in commerce of certain non-DOT specification cylinders containing compressed hydrogen. (mode 1)
16560-N |  | LightSail Energy, Berkely, CA | 49 CFR 173.302a | To authorize the manufacture, mark, sale and use of non-DOT specification cylinders used to transport certain non-liquefied compressed gases in commerce. (modes 1, 2, 3)
16563-N |  | Call2Recycle, Inc., Atlanta, GA | 49 CFR Subparts C through H of Part 172, 173.185(f) | To authorize the transportation in commerce of damaged or defective lithium ion cells and batteries and lithium metal cells and batteries and equipment containing these cells or batteries that originally met the requirements under 49 CFR 173.185(c). (modes 1, 2, 3)
16564-N |  | Carrier Corporation, Charlotte, NC | 49 CFR 173.306(e)(1)(i) | To authorize the transportation in commerce of new (unused) refrigerating machines containing up to 7,500 pounds of a Group Al refrigerant in each pressure vessel. (modes 1, 3)
16565-N |  | Special Devices, Incorporated, Mesa, AZ | 49 CFR 172.320, 173.56(b) | To authorize the transportation in commerce of certain pyrotechnic actuators classed as Class 9 hazardous materials. (modes 1, 2, 3, 4)
16567-N |  | FM Global Research Campus, Glocester, RI | 49 CFR 173.185(f) | To authorize the transportation in commerce of certain damaged or defective lithium ion cells and batteries in alternative packaging. (mode 1)

[FR Doc. 2015-23370 Filed 10-1-15; 8:45 am]

BILLING CODE 4909-60-M